DEPARTMENT OF HEALTH AND HUMAN SERVICES

Centers for Disease Control and Prevention

Advisory Committee to the Director, Centers for Disease Control and Prevention: Notice of Charter Renewal

This gives notice under the Federal Advisory Committee Act (Pub. L. 92-463) of October 6, 1972, that the Advisory Committee to the Director, Centers for Disease Control and Prevention (CDC), Department of Health and Human Services (HHS), has been renewed for a 2-year period through February 1, 2014.

For information, contact Carmen Villar, M.S.W., Designated Federal Officer, Advisory Committee to the Director, CDC, HHS, 1600 Clifton Road, NE., Mailstop D-14, Atlanta, Georgia 30333, telephone 404/639-7000 or fax 404/639-7111.

The Director, Management Analysis and Services Office, has been delegated the authority to sign Federal Register notices pertaining to announcements of meetings and other committee management activities, for both the Centers for Disease Control and Prevention and the Agency for Toxic Substances and Disease Registry.

Dated: March 13, 2012.
Elaine L. Baker,
Director, Management Analysis and Services Office, Centers for Disease Control and Prevention.

[FR Doc. 2012-6637 Filed 3-19-12; 8:45 am]

BILLING CODE 4163-18-P